DEPARTMENT OF HEALTH AND HUMAN SERVICES

National Institutes of Health

Request for Public Comments on the Development of the IACC Strategic Plan for Autism Spectrum Disorder (ASD)

SUMMARY: On behalf of the Interagency Autism Coordinating Committee (IACC) (http://www.iacc.hhs.gov/), the National Institute of Mental Health (NIMH) Office of Autism Research Coordination (OARC) is seeking public comments to assist the IACC in identifying priorities for the 2016 update of the IACC Strategic Plan for Autism Spectrum Disorder (ASD) (current IACC Strategic Plan can be viewed at https://iacc.hhs.gov/publications/strategic-plan/2013/) as required by the Autism Collaboration, Accountability, Research, Education and Support (CARES) Act of 2014 (Pub. L. 113-157).

The IACC is requesting public comments on research, services, and policy issues related to the seven topics addressed by the IACC Strategic Plan: Screening and Diagnosis, Underlying Biology of ASD, Risk Factors, Treatments and Interventions, Services, Lifespan Issues, and Surveillance and Infrastructure.

DATES: Responses to this notice are voluntary and the public comment period will be open from June 15, 2016-July 29, 2016.

ADDRESSES: All comments must be submitted electronically via the web-based form at: https://iacc.hhs.gov/meetings/public-comments/requests-for-information/2016/strategic-plan.shtml.

FOR FURTHER INFORMATION CONTACT: Specific questions about this Request for Public Comment should be directed to: IACCRFI@mail.nih.gov.

SUPPLEMENTARY INFORMATION: The IACC, a federal advisory committee composed of federal and public members, was established under the Combating Autism Act of 2006. The Committee was most recently reauthorized under the Autism CARES Act of 2014. The law requires that the IACC develop a strategic plan for autism research and update the Plan annually. The IACC last provided an update on the progress of the Strategic Plan in 2013. The IACC Strategic Plan is organized around seven questions that are important for people with ASD and their families:

1. When should I be concerned? (Screening and Diagnosis)

2. How can I understand what is happening? (Underlying Biology of ASD)

3. What caused this to happen and can this be prevented? (Risk Factors)

4. Which treatments and interventions will help? (Treatments and Interventions)

5. Where can I turn for services? (Services)

6. What does the future hold, especially for adults? (Lifespan Issues)

7. What other infrastructure and surveillance needs must be met? (Surveillance and Infrastructure)

Submission Information. For each chapter of the IACC Strategic Plan, commenters may provide input on what they consider to be the most important research, services and policy issues and remaining gaps in the subject area covered by that chapter. Please note that the web form will accept a maximum of 1,500 characters (including letters, numbers, punctuation, etc.) per topic area. A valid email address is required for submission, and only one submission per email address will be accepted. If duplicate submissions are received, only one example of such a submission will be included in the final set of comments.

The information that commenters provide will become part of the public record; as such, please do not include any personally identifiable or confidential information in the comments. The web form will provide the option of submitting responses anonymously, or the choice to include a name and/or organization associated with the comment. Comments are subject to redaction in accordance with federal policies. All comments or summaries of comments received will be made publicly available on the IACC Web site (www.iacc.hhs.gov) within 90 days of the closing deadline for this notice. Email addresses associated with comments will not be included as part of the public disclosure. After the closing deadline, responses cannot be edited or withdrawn. No basis for claims against the U.S. Government shall arise as a result of a response to this request for information or from the Government's use of such information.

Instructions. All comments must be submitted through the Web form at https://iacc.hhs.gov/meetings/public-comments/requests-for-information/2016/strategic-plan.shtml. Individuals submitting comments will receive an onscreen confirmation acknowledging receipt of the comment, but commenters will not receive individualized feedback or responses from the IACC. Only one comment per email address will be accepted, and if duplicate comments are received, only one example will be provided to the IACC. For further submission details and requirements please see Submission Information below.

Dated: June 10, 2016.
Susan A. Daniels,
Director, Office of Autism Research Coordination, National Institute of Mental Health.

[FR Doc. 2016-14330 Filed 6-16-16; 8:45 am]

BILLING CODE 4140-01-P